DEPARTMENT OF ENERGY

Federal Energy Regulatory Commission

Combined Notice of Filings #1

Take notice that the Commission received the following electric corporate filings:

Docket Numbers: EC15-159-000.

Applicants: Arizona Public Service Company.

Description: Section 203 Application of Arizona Public Service Company requesting authorization for the acquisition of El Paso Electric's ownership interests in Four Corners Power Plant.

Filed Date: 6/26/15.

Accession Number: 20150626-5326.

Comments Due: 5 p.m. ET 7/17/15.

Take notice that the Commission received the following electric rate filings:

Docket Numbers: ER10-2265-006; ER14-1818-006; ER14-1679-003; ER14-1678-003; ER14-1677-003; ER14-1676-003; ER14-1675-003; ER14-1674-003; ER14-1673-003; ER14-1672-003; ER14-1671-003; ER14-1670-003; ER14-1669-003; ER14-1668-003; ER13-1965-009; ER12-261-014; ER12-2413-010; ER11-4308-015; ER11-4307-015; ER11-2805-014; ER11-2508-014; ER11-2108-006; ER11-2107-006; ER11-2062-015; ER10-2931-012; ER10-2888-015; ER10-2876-012; ER10-2792-012; ER10-2791-012; ER10-2360-005; ER10-2356-005; ER10-2352-005; ER10-2351-005; ER10-2350-005; ER10-2347-005; ER10-2340-008; ER10-2339-008; ER10-2338-008; ER10-2336-005; ER10-2335-005; ER10-2333-005; ER10-1575-010; ER10-1291-016.

Applicants: NRG Power Marketing LLC, Bayou Cove Peaking Power, LLC, Bendwind, LLC, Big Cajun I Peaking Power LLC, Boston Energy Trading and Marketing LLC, Community Wind North 1 LLC, Community Wind North 2 LLC, Community Wind North 3 LLC, Community Wind North 5 LLC, Community Wind North 6 LLC, Community Wind North 7 LLC, Community Wind North 8 LLC, Community Wind North 9 LLC, Community Wind North 10 LLC, Community Wind North 11 LLC, Community Wind North 13 LLC, Community Wind North 15 LLC, Cottonwood Energy Company LP, CP Power Sales Seventeen, L.L.C., CP Power Sales Nineteen, L.L.C., CP Power Sales Twenty, L.L.C., DeGreeff DP, LLC, DeGreeffpa, LLC, Energy Alternatives Wholesale, LLC, Energy Plus Holdings LLC, GenConn Energy LLC, GenOn Energy Management, LLC, Green Mountain Energy Company, Groen Wind, LLC, Hillcrest Wind, LLC, Independence Energy Group LLC, Jeffers Wind 20, LLC, Larswind, LLC, Louisiana Generating LLC, North Community Turbines LLC, North Wind Turbines LLC, Norwalk Power LLC, NRG Sterlington Power LLC, NRG Wholesale Generation LP, Reliant Energy Northeast LLC, RRI Energy Services, LLC, Sierra Wind, LLC, TAIR Windfarm, LLC.

Description: Updated Market Power Analysis for the Central region of NRG MBR Sellers.

Filed Date: 6/26/15.

Accession Number: 20150626-5329.

Comments Due: 5 p.m. ET 8/25/15.

Docket Numbers: ER10-3042-004.

Applicants: Combined Locks Energy Center, LLC.

Description: Triennial Market-Based Rate Update of Combined Locks Energy Center, LLC.

Filed Date: 6/26/15.

Accession Number: 20150626-5331.

Comments Due: 5 p.m. ET 8/25/15.

Docket Numbers: ER11-1850-006; ER13-1192-003; ER11-1847-006; ER11-1846-006; ER11-1848-006; ER14-1360-002; ER11-2598-009; ER11-2516-006; ER12-1153-006; ER12-1152-006.

Applicants: Direct Energy Business, LLC, Direct Energy Business Marketing, LLC, Direct Energy Marketing Inc., Direct Energy Services, LLC, Energy America LLC, Energetix DE, LLC, Gateway Energy Services Corporation, NYSEG Solutions, LLC, Bounce Energy NY, LLC, Bounce Energy PA, LLC.

Description: Notice of Non-Material Change in Status of the Direct Energy Sellers.

Filed Date: 6/26/15.

Accession Number: 20150626-5332.

Comments Due: 5 p.m. ET 7/17/15.

Docket Numbers: ER11-3736-002.

Applicants: Pocahontas Prairie Wind, LLC.

Description: Updated Market Power Analysis for Central Region of Pocahontas Prairie Wind, LLC.

Filed Date: 6/29/15.

Accession Number: 20150629-5179.

Comments Due: 5 p.m. ET 8/28/15.

Docket Numbers: ER11-4633-003.

Applicants: Madison Gas & Electric Company.

Description: Triennial Market Based Rate filing of Madison Gas & Electric Company under ER11-4633.

Filed Date: 6/29/15.

Accession Number: 20150629-5172.

Comments Due: 5 p.m. ET 8/28/15.

Docket Numbers: ER13-823-004; ER15-1348-002; ER12-1561-003; ER10-2481-003; ER13-33-003.

Applicants: Castleton Commodities Merchant Trading L.P., Roseton Generating LLC, CCI Rensselaer LLC, Ingenco Wholesale Power, L.L.C., Collegiate Clean Energy, LLC.

Description: Notice of change in status of the CCI MBR Sellers.

Filed Date: 6/26/15.

Accession Number: 20150626-5316.

Comments Due: 5 p.m. ET 7/17/15.

Docket Numbers: ER15-258-001.

Applicants: DATC Path 15, LLC.

Description: Compliance filing: Compliance to 3000000 to be effective 5/17/2014.

Filed Date: 6/26/15.

Accession Number: 20150626-5247.

Comments Due: 5 p.m. ET 7/17/15.

Docket Numbers: ER15-960-001.

Applicants: CPV Biomass Holdings, LLC, CPV Keenan II Renewable Energy Company, LLC, CPV Maryland, LLC, CPV Shore, LLC, Benson Power, LLC.

Description: Notice of Change in Status of CPV Biomass Holdings, LLC, et al.

Filed Date: 6/26/15.

Accession Number: 20150626-5317.

Comments Due: 5 p.m. ET 7/17/15.

Docket Numbers: ER15-1334-001.

Applicants: Tucson Electric Power Company.

Description: Tariff Amendment: Response to Deficiency Letter Dated May 14, 2015 to be effective 2/17/2015.

Filed Date: 6/29/15.

Accession Number: 20150629-5126.

Comments Due: 5 p.m. ET 7/20/15.

Docket Numbers: ER15-1705-001.

Applicants: Public Service Company of Colorado.

Description: Tariff Amendment: Burlingon Request for Deferral of Action to be effective 10/1/2014.

Filed Date: 6/26/15.

Accession Number: 20150626-5231.

Comments Due: 5 p.m. ET 7/17/15.

Docket Numbers: ER15-1828-000; ER15-1829-000; ER15-1830-000.

Applicants: Fenton Power Partners I, LLC.

Description: Clarification to June 1, 2015 Fenton Power Partners I, LLC, et al. tariff filings.

Filed Date: 6/26/15.

Accession Number: 20150626-5303.

Comments Due: 5 p.m. ET 7/17/15.

Docket Numbers: ER15-2028-000.

Applicants: Southwest Power Pool, Inc.

Description: § 205(d) Rate Filing: Corn Belt Power Cooperative Formula Rate to be effective 10/1/2015.

Filed Date: 6/26/15.

Accession Number: 20150626-5225.

Comments Due: 5 p.m. ET 7/17/15.

Docket Numbers: ER15-2029-000.

Applicants: Exelon New Boston, LLC.

Description: § 205(d) Rate Filing: Exelon MBR Tariff Changes to be effective 6/29/2015.

Filed Date: 6/26/15.

Accession Number: 20150626-5233.

Comments Due: 5 p.m. ET 7/17/15.

Docket Numbers: ER15-2030-000.

Applicants: Exelon West Medway, LLC.

Description: § 205(d) Rate Filing: Exelon MBR Tariff Changes to be effective 6/29/2015.

Filed Date: 6/26/15.

Accession Number: 20150626-5236.

Comments Due: 5 p.m. ET 7/17/15.

Docket Numbers: ER15-2031-000.

Applicants: Exelon Wind 4, LLC.

Description: § 205(d) Rate Filing: Exelon MBR Tariff Changes to be effective 6/29/2015.

Filed Date: 6/26/15.

Accession Number: 20150626-5240.

Comments Due: 5 p.m. ET 7/17/15.

Docket Numbers: ER15-2032-000.

Applicants: Handsome Lake Energy, LLC.

Description: § 205(d) Rate Filing: Exelon MBR Tariff Changes to be effective 6/29/2015.

Filed Date: 6/26/15.

Accession Number: 20150626-5242.

Comments Due: 5 p.m. ET 7/17/15.

Docket Numbers: ER15-2033-000.

Applicants: Midcontinent Independent System Operator, Inc., Ameren Illinois Company.

Description: § 205(d) Rate Filing: 2015-06-26_SA 2808 Ameren Illinois-Marathon Petroleum Construction Agreement to be effective 5/27/2015.

Filed Date: 6/26/15.

Accession Number: 20150626-5243.

Comments Due: 5 p.m. ET 7/17/15.

Docket Numbers: ER15-2034-000.

Applicants: Bayonne Plant Holding, L.L.C.

Description: § 205(d) Rate Filing: MBR Revisions to be effective 6/27/2015.

Filed Date: 6/26/15.

Accession Number: 20150626-5245.

Comments Due: 5 p.m. ET 7/17/15.

Docket Numbers: ER15-2035-000.

Applicants: Brandon Shores LLC.

Description: § 205(d) Rate Filing: MBR Revisions to be effective 6/27/2015.

Filed Date: 6/26/15.

Accession Number: 20150626-5246.

Comments Due: 5 p.m. ET 7/17/15.

Docket Numbers: ER15-2036-000.

Applicants: C.P. Crane LLC.

Description: § 205(d) Rate Filing: MBR Revisions to be effective 6/27/2015.

Filed Date: 6/26/15.

Accession Number: 20150626-5248.

Comments Due: 5 p.m. ET 7/17/15.

Docket Numbers: ER15-2037-000.

Applicants: Virginia Electric and Power Company.

Description: § 205(d) Rate Filing: Rate Schedule 102—Amendment to Schedule A to be effective 6/7/2015.

Filed Date: 6/26/15.

Accession Number: 20150626-5249.

Comments Due: 5 p.m. ET 7/17/15.

Docket Numbers: ER15-2038-000.

Applicants: Duke Energy Florida, Inc.

Description: Tariff Cancellation: Termination of Rate Schedule No. 150 Intercession City to be effective 5/21/2015.

Filed Date: 6/26/15.

Accession Number: 20150626-5250.

Comments Due: 5 p.m. ET 7/17/15.

Docket Numbers: ER15-2039-000.

Applicants: California Independent System Operator Corporation.

Description: Compliance filing: 2015-06-26 Petition for Limited Tariff Waiver of Section 27.10 to be effective N/A.

Filed Date: 6/26/15.

Accession Number: 20150626-5251.

Comments Due: 5 p.m. ET 7/17/15.

Docket Numbers: ER15-2040-000.

Applicants: Camden Plant Holding, L.L.C.

Description: § 205(d) Rate Filing: MBR Revisions to be effective 6/27/2015.

Filed Date: 6/26/15.

Accession Number: 20150626-5252.

Comments Due: 5 p.m. ET 7/17/15.

Docket Numbers: ER15-2041-000.

Applicants: Dartmouth Power Associates Limited Partnership.

Description: § 205(d) Rate Filing: MBR Revisions to be effective 6/27/2015.

Filed Date: 6/26/15.

Accession Number: 20150626-5253.

Comments Due: 5 p.m. ET 7/17/15.

Docket Numbers: ER15-2042-000.

Applicants: Elmwood Park Power, LLC.

Description: § 205(d) Rate Filing: MBR Revisions to be effective 6/27/2015.

Filed Date: 6/26/15.

Accession Number: 20150626-5254.

Comments Due: 5 p.m. ET 7/17/15.

Docket Numbers: ER15-2043-000.

Applicants: H.A. Wagner LLC.

Description: § 205(d) Rate Filing: MBR Revisions to be effective 6/27/2015.

Filed Date: 6/26/15.

Accession Number: 20150626-5255.

Comments Due: 5 p.m. ET 7/17/15.

Docket Numbers: ER15-2044-000.

Applicants: Newark Bay Cogeneration Partnership, L.P.

Description: § 205(d) Rate Filing: MBR Revisions to be effective 6/27/2015.

Filed Date: 6/26/15.

Accession Number: 20150626-5256.

Comments Due: 5 p.m. ET 7/17/15.

Docket Numbers: ER15-2045-000.

Applicants: Pedricktown Cogeneration Company LP.

Description: § 205(d) Rate Filing: MBR Revisions to be effective 6/27/2015.

Filed Date: 6/26/15.

Accession Number: 20150626-5258.

Comments Due: 5 p.m. ET 7/17/15.

Docket Numbers: ER15-2046-000.

Applicants: Raven Power Marketing LLC.

Description: § 205(d) Rate Filing: MBR Revisions to be effective 6/27/2015.

Filed Date: 6/26/15.

Accession Number: 20150626-5259.

Comments Due: 5 p.m. ET 7/17/15.

Docket Numbers: ER15-2047-000.

Applicants: Sapphire Power Marketing LLC.

Description: § 205(d) Rate Filing: MBR Revisions to be effective 6/27/2015.

Filed Date: 6/26/15.

Accession Number: 20150626-5260.

Comments Due: 5 p.m. ET 7/17/15.

Docket Numbers: ER15-2048-000.

Applicants: York Generation Company LLC.

Description: § 205(d) Rate Filing: MBR Revisions to be effective 6/27/2015.

Filed Date: 6/26/15.

Accession Number: 20150626-5262.

Comments Due: 5 p.m. ET 7/17/15.

Docket Numbers: ER15-2049-000.

Applicants: DATC Path 15, LLC.

Description: § 205(d) Rate Filing: Compliance to be effective 5/17/2014.

Filed Date: 6/26/15.

Accession Number: 20150626-5268.

Comments Due: 5 p.m. ET 7/17/15.

Docket Numbers: ER15-2050-000.

Applicants: Midcontinent Independent System Operator, Inc.

Description: § 205(d) Rate Filing: 2015-06-26_Revision to NRIS Definition Filing to be effective 8/1/2015.

Filed Date: 6/26/15.

Accession Number: 20150626-5269.

Comments Due: 5 p.m. ET 7/17/15.

Docket Numbers: ER15-2051-000.

Applicants: Whiting Clean Energy, Inc.

Description: § 205(d) Rate Filing: Proposed Revisions to Market-Based Rate Tariff to be effective 8/29/2015.

Filed Date: 6/29/15.

Accession Number: 20150629-5067.

Comments Due: 5 p.m. ET 7/20/15.

Docket Numbers: ER15-2052-000.

Applicants: Occidental Power Marketing, L.P.

Description: Market-Based Triennial Review Filing: Updated Market Power Analysis to be effective 6/30/2015.

Filed Date: 6/29/15.

Accession Number: 20150629-5079.

Comments Due: 5 p.m. ET 8/28/15.

Docket Numbers: ER15-2053-000.

Applicants: Occidental Power Services, Inc.

Description: Market-Based Triennial Review Filing: Updated Market Power Analysis to be effective 6/30/2015.

Filed Date: 6/29/15.

Accession Number: 20150629-5081.

Comments Due: 5 p.m. ET 8/28/15.

Docket Numbers: ER15-2054-000.

Applicants: Occidental Chemical Corporation.

Description: Market-Based Triennial Review Filing: Updated Market Power Analysis to be effective 6/30/2015.

Filed Date: 6/29/15.

Accession Number: 20150629-5082.

Comments Due: 5 p.m. ET 8/28/15.

Docket Numbers: ER15-2055-000.

Applicants: Combined Locks Energy Center, LLC.

Description: Market-Based Triennial Review Filing: IEG Triennial MBR Update in Docket Nos. ER10-1894, 1882, 3036 and 3042 to be effective 8/25/2015.

Filed Date: 6/29/15.

Accession Number: 20150629-5140.

Comments Due: 5 p.m. ET 8/28/15.

Docket Numbers: ER15-2056-000.

Applicants: Upper Peninsula Power Company.

Description: Market-Based Triennial Review Filing: UPPCo Triennial MBR Update and Request for Category 1 Seller Status to be effective 8/28/2015.

Filed Date: 6/29/15.

Accession Number: 20150629-5151.

Comments Due: 5 p.m. ET 8/28/15.

Docket Numbers: ER15-2057-000.

Applicants: Tanner Street Generation, LLC.

Description: § 205(d) Rate Filing: CIS with Cat 1 Seller Request re NE to be effective 6/30/2015.

Filed Date: 6/29/15.

Accession Number: 20150629-5171.

Comments Due: 5 p.m. ET 7/20/15.

Docket Numbers: ER15-2058-000.

Applicants: PJM Interconnection, L.L.C.

Description: § 205(d) Rate Filing: First Revised Service Agreement No. 1570; Queue No. Z2-029 to be effective 5/29/2015.

Filed Date: 6/29/15.

Accession Number: 20150629-5205.

Comments Due: 5 p.m. ET 7/20/15.

Docket Numbers: ER15-2059-000.

Applicants: New York Independent System Operator, Inc.

Description: § 205(d) Rate Filing: NYISO 205 filing re: Public Policy Transmission Planning Process to be effective 8/28/2015.

Filed Date: 6/29/15.

Accession Number: 20150629-5223.

Comments Due: 5 p.m. ET 7/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 29, 2015.
Nathaniel J. Davis, Sr.,
Deputy Secretary.

[FR Doc. 2015-16437 Filed 7-2-15; 8:45 am]

BILLING CODE 6717-01-P